FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 12, 2017.

A. Federal Reserve Bank of Chicago (Colette A. Fried, Assistant Vice President) 230 South LaSalle Street, Chicago, Illinois 60690-1414:

1. Catherine Rottinghaus, Charles City, Iowa; Janet Rydberg, Des Moines, Iowa; and Julie Woodhouse, Carroll, Iowa; to each acquire voting shares of Community Grain Company, and thereby indirectly acquire voting shares of Iowa Savings Bank, both in Carroll, Iowa, and join the Hess Family Control Group previously approved on February 12, 2015.

2. Susan A. Volkert, individually, Montgomery, Illinois; to acquire voting shares of Montgomery Bancshares, Inc., and thereby indirectly acquire voting shares of Bank of Montgomery, both in Montgomery, Illinois.

B. Federal Reserve Bank of Kansas City (Dennis Denney, Assistant Vice President) 1 Memorial Drive, Kansas City, Missouri 64198-0001:

1. Charese Yanney, Sioux City, Iowa; to retain voting shares of Clarkson Management Company, and thereby indirectly retain voting shares of Clarkson Bank, both in Clarkson, Nebraska.

Board of Governors of the Federal Reserve System, September 22, 2017.
Yao-Chin Chao,
Assistant Secretary of the Board.

[FR Doc. 2017-20674 Filed 9-26-17; 8:45 am]

BILLING CODE P